DEPARTMENT OF TRANSPORTATION

Federal Aviation Administration

14 CFR Part 91

[Docket No. FAA-2023-1836; Amdt. No. 91-371B]

RIN 2120-AL70

Inclusion of Additional Automatic Dependent Surveillance-Broadcast (ADS-B) Out Technical Standard Orders; Incorporation by Reference; Correction

AGENCY: Federal Aviation Administration (FAA), U.S. Department of Transportation (DOT).

ACTION: Direct final rule; correction.

SUMMARY: On October 17, 2023, the Federal Aviation Administration (FAA) published the subject direct final rule in the Federal Register, confirmed on November 29, 2023. In that direct final rule, the FAA redesignated two paragraphs in one section of the Code of Federal Regulations but failed to amend cross-references to those paragraphs. This document corrects those errors.

DATES: This correction is effective April 29, 2024.

FOR FURTHER INFORMATION CONTACT: Juan Sebastian Yanguas, Airspace Rules & Regulations, AJV-P21, Federal Aviation Administration, 800 Independence Avenue SW, Washington, DC 20591; telephone (202) 267-8783; email Juan.S.Yanguas@faa.gov.

SUPPLEMENTARY INFORMATION: On October 17, 2023, the Federal Aviation Administration (FAA) published the direct final rule, Inclusion of Additional Automatic Dependent Surveillance-Broadcast (ADS-B) Out Technical Standard Orders; Incorporation by Reference, in the Federal Register.¹ In that direct final rule the FAA incorporated by reference two new Technical Standard Orders (TSOs), and three RTCA documents—TSO-C166c, TSO-C154d, section 2 of RTCA DO-260C, RTCA DO-260C Change 1, and section 2 of RTCA DO-282C into 14 CFR 91.225 and 91.227. The FAA responded to comments and confirmed the direct final rule on November 28, 2023.²

¹ 88 FR 71468; FR Doc. 2023-22710.

² 88 FR 83022.

In the direct final rule, the FAA amended § 91.225 by redesignating paragraphs (h) and (i) as set out in the following redesignation table:

Old paragraph | New paragraph
paragraph (h) | paragraph (i).
paragraph (i) | paragraph (h).

While the FAA discussed the redesignation of paragraphs (h) and (i), it failed to revise cross-references to those paragraphs appearing elsewhere in § 91.225. This document corrects those errors.

List of Subjects in 14 CFR Part 91

Air traffic control, Aircraft, Airports, Aviation safety, Incorporation by reference, Transportation.

Accordingly, 14 CFR part 91 is corrected by making the following correcting amendments:

PART 91—GENERAL OPERATING AND FLIGHT RULES

1. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Civil Aviation (61 Stat. 1180), (126 Stat. 11).

2. Amend § 91.225 by revising the introductory text of paragraphs (d) and (f) to read as follows:

§ 91.225 Automatic Dependent Surveillance-Broadcast (ADS-B) Out equipment and use.

* * * * *

(d) After January 1, 2020, except as prohibited in paragraph (h)(2) of this section or unless otherwise authorized by ATC, no person may operate an aircraft in the following airspace unless the aircraft has equipment installed that meets the requirements in paragraph (b) of this section:

* * * * *

(f) Except as prohibited in paragraph (h)(2) of this section, each person operating an aircraft equipped with ADS-B Out must operate this equipment in the transmit mode at all times unless—

* * * * *

Issued under the authority of 49 U.S.C. 106(f) in Washington, DC.
Brandon Roberts,
Executive Director, Office of Rulemaking.

[FR Doc. 2024-08885 Filed 4-26-24; 8:45 am]

BILLING CODE 4910-13-P